ENVIRONMENTAL PROTECTION AGENCY

[EPA-HQ-OAR-2024-0270; FRL-12655-01-OMS]

Agency Information Collection Activities; Submission to the Office of Management and Budget for Review and Approval; Comment Request; NESHAP for Surface Coating of Metal Cans (Renewal)

AGENCY: Environmental Protection Agency (EPA).

ACTION: Notice.

SUMMARY: The Environmental Protection Agency (EPA) has submitted an information collection request (ICR), NESHAP for Surface Coating of Metal Cans (EPA ICR Number 2079.10, OMB Control Number 2060-0541) to the Office of Management and Budget (OMB) for review and approval in accordance with the Paperwork Reduction Act. This is a proposed extension of the ICR, which is currently approved through February 28, 2025. Public comments were previously requested via the Federal Register on August 6, 2024 during a 60-day comment period. This notice allows for an additional 30 days for public comments.

DATES: Comments may be submitted on or before March 31, 2025.

ADDRESSES: Submit your comments, referencing Docket ID Number EPA-HQ-OAR-2024-0270, to EPA online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division, Office of Air Quality Planning and Standard, D243-05, Environmental Protection Agency, 1200 Pennsylvania Ave. NW, Washington, DC 20460; telephone number: (919) 541-0833; email address: ali.muntasir@epa.gov.

SUPPLEMENTARY INFORMATION: This is a proposed extension of the ICR, which is currently approved through February 28, 2025 An agency may not conduct or sponsor and a person is not required to respond to a collection of information unless it displays a currently valid OMB control number.

Public comments were previously requested via the Federal Register on August 6, 2024 during a 60-day comment period (89 FR 63933). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The National Emission Standards for Hazardous Air Pollutants (NESHAP) for Metal Can Manufacturing Surface Coating were proposed on January 15, 2003, promulgated on November 13, 2003, and amended on January 6, 2006 and February 25, 2020. The latest amendment was a residual risk and technology review (RTR) required of periodic air emissions testing, revisions to the startup, shutdown, and malfunction (SSM) provisions, and the use of electronic data reporting for performance test data submittals notifications, and reports. These regulations apply to existing and new facilities in this source category that use 5,700 liters (1,500 gallons) per year or more of coatings and that is a major source of hazardous air pollutant (HAP). The metal can surface coating source category includes any facilities that coat or print metal cans (including decorative tins), metal ends for metal or composite cans, or metal crowns or closures for any type of can during any stage of the can manufacturing process. The source category does not include the coating of metal coils for cans or can parts. Coil coating for cans and can parts is included in the NESHAP for the surface coating of metal coil (40 CFR part 63, subpart SSSS). The source category does not include the coating of pails and drums, which is covered in the NESHAP for the surface coating of miscellaneous metal parts and products (40 CFR part 63, subpart MMMM). New facilities include those that commenced construction or reconstruction after January 15, 2003. This information is being collected to assure compliance with 40 CFR part 63, subpart KKKK.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Respondents/affected entities: Metal can manufacturing facilities that use 5,700 liters (1,500 gallons) per year or more of surface coatings.

Respondent's obligation to respond: Mandatory (40 CFR part 63, subpart KKKK).

Estimated number of respondents: 5 (total).

Frequency of response: Initially, occasionally, and semiannually.

Total estimated burden: 1,940 hours (per year). Burden is defined at 5 CFR 1320.03(b).

Total estimated cost: $282,000 (per year), which includes $15,400 annualized capital or operation & maintenance costs.

Changes in the estimates: There is a decrease of 54 hours in the total estimated respondent burden compared with the ICR currently approved by OMB. The previous ICR reflected those burdens and costs associated with the initial activities for subject facilities due to the 2020 amendments. This included time to familiarize with CEDRI for electronic reporting and revision of record systems due to the revisions for periods of startup, shutdown, and malfunction. There is also a decrease in the Capital O&M compared to the previously approved ICR. Most of the Capital O&M included with the previous ICR is associated with capital and startup costs. This ICR, by in large, reflects the on-going burden and costs for existing facilities following rulemaking activities.

Courtney Kerwin,
Director, Information Engagement Division.

[FR Doc. 2025-03340 Filed 2-27-25; 8:45 am]

BILLING CODE 6560-50-P